DEPARTMENT OF ENERGY

Federal Energy Regulatory Commission

[Project Nos. 2030-031 and 11832-000]

Portland General Electric Company and The Confederated Tribes of the Warm Springs Reservation of Oregon; Notice

February 11, 2000.

Barry Smoler, of the Commission's office of the General Counsel, (202) 208-1269, has been assigned to facilitate any discussions that may transpire in the above-captioned proceedings. He has been separated from and will not participate as, advisory staff in these proceedings.

Linwood A. Watson, Jr.,
Acting Secretary.

[FR Doc. 00-3763 Filed 2-16-00; 8:45 am]

BILLING CODE 6717-01-M